DEPARTMENT OF HOMELAND SECURITY

Federal Emergency Management Agency

44 CFR Part 61

[Docket ID FEMA-2018-0026]

RIN 1660-AA95

National Flood Insurance Program: Conforming Changes To Reflect the Biggert-Waters Flood Insurance Reform Act of 2012 (BW-12) and the Homeowners Flood Insurance Affordability Act of 2014 (HFIAA), and Additional Clarifications for Plain Language; Correction

AGENCY: Federal Emergency Management Agency, Department of Homeland Security (DHS).

ACTION: Correcting amendment.

SUMMARY: On July 20, 2020, FEMA published in the Federal Register a final rule revising the National Flood Insurance Program (NFIP) regulations to codify certain provisions of the Biggert-Waters Flood Insurance Reform Act of 2012 and the Homeowner Flood Insurance Affordability Act of 2014, and to clarify certain existing NFIP rules relating to NFIP operations and the Standard Flood Insurance Policy. This document provides corrections to information provided in a table.

DATES: This correction is effective November 9, 2021.

ADDRESSES: The docket for this rulemaking is available for inspection using the Federal eRulemaking Portal at https://www.regulations.gov and can be viewed by following that website's instructions.

FOR FURTHER INFORMATION CONTACT: Kelly Bronowicz, Director, Policyholder Services Division, Federal Insurance and Mitigation Administration, Federal Emergency Management Agency, 400 C Street SW, Washington, DC 20472, (202) 557-9488.

SUPPLEMENTARY INFORMATION: On July 20, 2020, FEMA published in the Federal Register a final rule revising the National Flood Insurance Program (NFIP) regulations to codify certain provisions of the Biggert-Waters Flood Insurance Reform Act of 2012 and the Homeowner Flood Insurance Affordability Act of 2014, and to clarify certain existing NFIP rules relating to NFIP operations and the Standard Flood Insurance Policy. In 44 CFR 61.6(a), Table 1, “Maximum Amounts of Coverage Available,” contained two inadvertently placed asterisks next to “Non-Residential Building” in the “Building Coverage” heading. The “**” denotes that the maximum amount of coverage for Non-Residential Buildings in Alaska, Guam, and Hawaii is $150,000.00. However, the presence of “**” was an error, as 42 U.S.C. 4013 contains no such maximum. Accordingly, this correction removes the incorrectly-placed “**”.

List of Subjects in 44 CFR Part 61

Flood insurance, Reporting and recordkeeping requirements.

For the reasons set forth above, 44 CFR part 61 is corrected by making the following correcting amendment:

PART 61—INSURANCE COVERAGE AND RATES

1. The authority citation for part 61 continues to read as follows:

Authority: 42 U.S.C. 4001 et seq.; 6 U.S.C. 101 et seq.

2. In § 61.6, amend table 1 to paragraph (a) under the heading “Building Coverage” by revising the entry “Non-Residential Building” to read as follows:

§ 61.6 Maximum amounts of coverage available.

(a) * * *

Table 1 to Paragraph (a)—Maximum Amounts of Coverage Available ¹
Occupancy | Emergency program: Amount | Regular program: Amount
Building Coverage
* * * * * * *
Non-Residential Building | 100,000 | $500,000
* * * * * * *
¹ This Table provides the maximum coverage amounts available under the Emergency Program and the Regular Program, and the columns cannot be aggregated to exceed the limits in the Regular Program, which are established by statute. The aggregate limits for building coverage are the maximum coverage amounts allowed by statute for each building included in the relevant Occupancy Category.

* * * * *

Deanne B. Criswell,
Administrator, Federal Emergency Management Agency.

[FR Doc. 2021-24489 Filed 11-8-21; 8:45 am]

BILLING CODE 9111-52-P